COMMISSION ON CIVIL RIGHTS

Agenda and Notice of Public Meeting of the New Hampshire State Advisory Committee

Notice is hereby given, pursuant to the provisions of the rules and regulations of the U.S. Commission on Civil Rights (Commission), and the Federal Advisory Committee Act (FACA), that the New Hampshire State Advisory Committee to the Commission will meet at 10:30 a.m. (EDT) on Monday, August 29, 2011, in Room 255 of the Student Center at the University of New Hampshire, 400 Commercial Street, Manchester, NH 03101. The purpose of the briefing meeting is to inform members on the operations of Federal advisory committees. The purpose of the planning meeting is to discuss future activities.

Members of the public are entitled to submit written comments; the comments must be received in the regional office by September 29, 2011. Written comments may be mailed to the Eastern Regional Office, U.S. Commission on Civil Rights, 624 9th Street, NW., Suite 740, Washington, DC 20425. They may be faxed to (202) 376-7548 or e-mailed to ero@usccr.gov. Persons who desire additional information may contact the Eastern Regional Office at (202) 376-7533.

Records generated from this meeting may be inspected and reproduced at the Eastern Regional Office, as they become available, both before and after the meeting. Persons interested in the work of this advisory committee are advised to go to the Commission's Web site, http://www.usccr.gov, or to contact the Eastern Regional Office at the above e-mail or street address.

Deaf or hearing-impaired persons who will attend the meeting(s) and require the services of a sign language interpreter should contact the Eastern Regional Office at least ten (10) working days before the scheduled date of the meeting.

The meeting will be conducted pursuant to the provisions of the rules and regulations of the Commission and FACA.

Dated in Washington, DC, August 10, 2011.
Peter Minarik,
Acting Chief, Regional Programs Coordination Unit.

[FR Doc. 2011-20645 Filed 8-12-11; 8:45 am]

BILLING CODE 6335-01-P